DEPARTMENT OF ENERGY

Secretary of Energy Advisory Board, Task Force on Technology Development for Environmental Management

AGENCY: Department of Energy.

ACTION: Notice of open meeting.

SUMMARY: This notice announces an open meeting of the Secretary of Energy Advisory Board (SEAB), Task Force on Technology Development for Environmental Management (EM). SEAB was reestablished pursuant to the Federal Advisory Committee Act (Pub. L. 92-463, 86 Stat. 770) (the Act). This notice is provided in accordance with the Act.

DATES: Tuesday, July 15, 2014; 9:45 a.m.-3:00 p.m.

ADDRESSES: Department of Energy, 1000 Independence Avenue SW., Washington, DC 20585.

FOR FURTHER INFORMATION CONTACT: Corey Williams-Allen, Deputy Designated Federal Officer, U.S. Department of Energy, 1000 Independence Avenue SW., Washington, DC 20585; telephone (202) 586-1916; seab@hq.doe.gov.

SUPPLEMENTARY INFORMATION: Background: The Board was established to provide advice and recommendations to the Secretary on the Department's basic and applied research, economic and national security policy, educational issues, operational issues and other activities as directed by the Secretary. The Task Force on Technology Development for EM is charged with assessing the value of a renewed EM science and technology development effort and how such a program would be structured.

Purpose of the Meeting: The meeting will be an opportunity to hear an overview of environmental management at the Department.

Tentative Agenda: The meeting will start at 9:45 a.m. on July 15, 2014. The tentative meeting agenda includes presentations from DOE program offices and national laboratories. From approximately 9:45 a.m. to 12:00 p.m. and 12:30 p.m. to 2:45 p.m., the Task Force will hear presentations from DOE program offices/national laboratories on environmental management. The meeting will conclude at 3:00 p.m.

Public Participation: The meeting is open to the public. Individuals who would like to attend must RSVP to Corey Williams-Allen no later than 5:00 p.m. on Thursday, July 10, 2014 at <seab@hq.doe.gov>. Please provide your name, organization, citizenship and contact information. Anyone attending the meeting will be required to present government issued identification. Individuals and representatives of organizations who would like to offer comments and suggestions may do so at the end of the meeting on Tuesday, July 15, 2014. Approximately 15 minutes will be reserved for public comments. Time allotted per speaker will depend on the number who wish to speak but will not exceed 5 minutes. The Designated Federal Officer (or designee) is empowered to conduct the meeting in a fashion that will facilitate the orderly conduct of business. Those wishing to speak should register to do so beginning at 9:30 a.m. on July 15, 2014.

Those not able to attend the meeting or have insufficient time to address the committee are invited to send a written statement to Corey Williams-Allen, U.S. Department of Energy, 1000 Independence Avenue SW., Washington DC 20585, or by email to: seab@hq.doe.gov.

This notice is being published less than 15 days prior to the meeting date due to programmatic issues and members' availability.

Minutes: The minutes of the meeting will be available by contacting Mr. Williams-Allen. He may be reached at the postal address or email address above.

Issued in Washington, DC on June 27, 2014.
LaTanya R. Butler,
Deputy Committee Management Officer.

[FR Doc. 2014-15512 Filed 7-1-14; 8:45 am]

BILLING CODE 6450-01-P